DEPARTMENT OF COMMERCE

International Trade Administration

[A-570-831]

Fresh Garlic From the People's Republic of China: Partial Rescission of the 2010-2011 Antidumping Duty Administrative Review

AGENCY: Import Administration, International Trade Administration, Department of Commerce.

DATES: Effective Date: June 19, 2012.

FOR FURTHER INFORMATION CONTACT: Lingjun Wang or David Lindgren, AD/CVD Operations, Office 6, Import Administration, International Trade Administration, U.S. Department of Commerce, 14th Street and Constitution Avenue NW., Washington, DC 20230; telephone (202) 482-2316 or (202) 482-3870, respectively.

Background

On November 1, 2011, the Department of Commerce (Department) published in the Federal Register a notice of opportunity to request administrative review of, inter alia, the antidumping duty order on fresh garlic from the People's Republic of China (PRC) covering the period November 1, 2010, through October 31, 2011.¹ In November 2011, the Department received review requests from PRC producers/exporters of fresh garlic ² and the Fresh Garlic Producer Association (FGPA) and its individual members (collectively, Petitioners).³ On December 30, 2011, the Department initiated this review for 120 producers/exporters.⁴ Finally, on March 29, 2012, Petitioners timely withdrew their review requests for 100 producers/exporters listed as an attachment to this notice; ⁵ one company, Zhengzhou Harmoni Spice Co., Ltd. also filed a timely withdrawal of its review request on the same date.

¹ See Antidumping or Countervailing Duty Order, Finding, or Suspended Investigation; Opportunity To Request Administrative Review, 76 FR 67413 (November 1, 2011).

² They are Jinan Farmlady Trading Co., Ltd.; Qingdao Sea-Line International Trading Co., Ltd.; Shandong Jinxiang Zhengyang Import & Export Co., Ltd.; Shenzhen Xinboda Industrial Co., Ltd.; Zhengzhou Harmoni Spice Co., Ltd.; Weifang Hongqiao International Logistic Co., Ltd.

³ The individual members of the FGPA are Christopher Ranch L.L.C., The Garlic Company, Valley Garlic, and Vessey and Company, Inc.

⁴ See Initiation of Antidumping and Countervailing Duty Administrative Reviews and Request for Revocation in Part, 76 FR 82268 (December 30, 2011) (Initiation Notice).

⁵ See Attachment 1.

Partial Rescission

Pursuant to 19 CFR 351.213(d)(1), the Secretary will rescind an administrative review, in whole or in part, if a party who requested the review withdraws the request within 90 days of the day of publication of notice of initiation of the requested review. The aforementioned requests for review were withdrawn within the 90-day period. Because the requests for review were timely withdrawn and because no other party requested a review of the aforementioned producers/exporters, in accordance with 19 CFR 351.213(d)(1), we are partially rescinding this review with respect to these producers/exporters.

Assessment Rates

The Department will instruct U.S. Customs and Border Protection (CBP) to assess antidumping duties on all appropriate entries. For those producers/exporters for which this review has been rescinded and which have a separate rate from a prior segment of this proceeding, antidumping duties shall be assessed at rates equal to the cash deposit of estimated antidumping duties required at the time of entry, or withdrawal from warehouse, for consumption, in accordance with 19 CFR 351.212(c)(2). For those producers/exporters for which this review has been rescinded and which have not been assigned a separate rate from a prior segment of the proceeding, the Department has stated that they belong to the PRC-wide entity and that the administrative review will continue for these companies.⁶ In both cases, the Department intends to issue the appropriate liquidation instructions directly to CBP 15 days after publication of this notice.

⁶ See Initiation Notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Order

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: June 11, 2012.
Christian Marsh,
Deputy Assistant Secretary for Antidumping and Countervailing Duty Operations.

Attachment 1

1. APM Global Logistics (Shanghai) Co., Ltd.

2. APS Qingdao

3. American Pioneer Shipping

4. Anhui Dongqian Foods Ltd.

5. Anqiu Friend Food Co., Ltd.

6. Anqiu Haoshun Trade Co., Ltd.

7. Chiping Shengkang Foodstuff Co., Ltd.

8. CMEC Engineering Machinery Import & Export Co., Ltd.

9. Dongying Shunyifa Chemical Co., Ltd.

10. Dynalink Systems Logistics (Qingdao) Inc.

11. Eimskip Logistics Inc.

12. Feicheng Acid Chemicals Co., Ltd.

13. Frog World Co., Ltd.

14. Golden Bridge International, Inc.

15. Hangzhou Guanyu Foods Co., Ltd.

16. Heze Ever-Best International Trade Co., Ltd. (f/k/a Shandong Heze International Trade and Developing Company)

17. Hongqiao International Logistics Co.

18. Intecs Logistics Service Co., Ltd.

19. IT Logistics Qingdao Branch

20. Jinan Solar Summit International Co., Ltd.

21. Jinan Yipin Corporation Ltd.

22. Jining De-Rain Trading Co., Ltd.

23. Jining Highton Trading Co., Ltd.

24. Jining Jiulong International Trading Co., Ltd.

25. Jining Tiankuang Trade Co., Ltd.

26. Jining Trans-High Trading Co., Ltd.

27. Jining Yifa Garlic Produce Co., Ltd.

28. Jinxiang County Huaguang Food Import & Export Co., Ltd.

29. Jinxiang Dacheng Food Co., Ltd.

30. Jinxiang Dongyun Freezing Storage Co., Ltd. (a/k/a Jinxiang Eastward Shipping Import and Export Limited Company and Jinxiang Dongyun Import & Export Co.)

31. Jinxiang Fengsheng Import & Export Co., Ltd.

32. Jinxiang Jinma Fruits Vegetables Products Co., Ltd.

33. Jinxiang Meihua Garlic Produce Co., Ltd.

34. Jinxiang Shanyang Freezing Storage Co., Ltd.

35. Jinxiang Shenglong Trade Co., Ltd.

36. Jinxiang Tianheng Trade Co., Ltd.

37. Jinxiang Tianma Freezing Storage Co., Ltd.

38. Jinxiang Yuanxin Import & Export Co., Ltd.

39. Juye Homestead Fruits and Vegetables Co., Ltd.

40. Kingwin Industrial Co., Ltd.

41. Laiwu Fukai Foodstuff Co., Ltd.

42. Laizhou Xubin Fruits and Vegetables

43. Linshu Dading Private Agricultural Products Co., Ltd.

44. Linyi City Hedong District Jiuli Foodstuff Co., Ltd.

45. Linyi City Kangfa Foodstuff Drinkable Co., Ltd.

46. Linyi Katayama Foodstuffs Co., Ltd.

47. Linyi Tianqin Foodstuff Co., Ltd.

48. Ningjin Ruifeng Foodstuff Co., Ltd.

49. Qingdao Apex Shipping Co., Ltd.

50. Qingdao BNP Co., Ltd.

51. Qingdao Cherry Leather Garment Co., Ltd.

52. Qingdao Chongzhi International Transportation Co., Ltd.

53. Qingdao Lianghe International Trade Co., Ltd.

54. Qingdao Saturn International Trade Co., Ltd.

55. Qingdao Sino-World International Trading Co., Ltd.

56. Qingdao Winner Foods Co., Ltd.

57. Qingdao Yuankang International

58. Qufu Dongbao Import & Export Trade Co., Ltd.

59. Rizhao Huasai Foodstuff Co., Ltd.

60. Samyoung America (Shanghai) Inc.

61. Shandong Chengshun Farm Produce Trading Co., Ltd.

62. Shandong China Bridge Imports

63. Shandong Dongsheng Eastsun Foods Co., Ltd.

64. Shandong Garlic Company

65. Shandong Longtai Fruits and Vegetables Co., Ltd.

66. Shandong Wonderland Organic Food Co., Ltd.

67. Shandong Sanxing Food Co., Ltd.

68. Shandong Xingda Foodstuffs Group Co., Ltd.

69. Shandong Yipin Agro (Group) Co., Ltd.

70. Shanghai Ever Rich Trade Company

71. Shanghai Goldenbridge International Co., Ltd.

72. Shanghai Great Harvest International Co., Ltd.

73. Shanghai Medicines & Health Products Import/Export Co., Ltd.

74. Shanghai Yijia International Transportation Co., Ltd.

75. Shenzhen Bainong Co., Ltd.

76. Shenzhen Fanhui Import & Export Co., Ltd.

77. Shenzhen Greening Trading Co., Ltd.

78. T&S International, LLC

79. Taian Eastsun Foods Co., Ltd.

80. Taian Fook Huat Tong Kee Pte. Ltd.

81. Taian Solar Summit Food Co., Ltd.

82. Tianjin Spiceshi Co., Ltd.

83. Taiyan Ziyang Food Co., Ltd.

84. U.S. United Logistics (Ningbo) Inc.

85. V.T. Impex (Shandong) Limited

86. Weifang Chenglong Import & Export Co., Ltd.

87. Weifang Jinbao Agricultural Equipment Co., Ltd.

88. Weifang Naike Foodstuffs Co., Ltd.

89. Weifang Shennong Foodstuff Co., Ltd.

90. Weihai Textile Group Import & Export Co., Ltd.

91. WSSF Corporation (Weifang)

92. Xiamen Huamin Import Export Company

93. Xiamen Keep Top Imp. and Exp. Co., Ltd.

94. Xinjiang Top Agricultural Products Co., Ltd.

95. Xuzhou Heiners Agricultural Co., Ltd.

96. XuZhou Simple Garlic Industry Co., Ltd.

97. You Shi Li International Trading Co., Ltd.

98. Zhangzhou Xiangcheng Rainbow Greenland Food Co., Ltd.

99. Zhengzhou Dadi Garlic Industry Co., Ltd.

100. Zhengzhou Harmoni Spice Co., Ltd.

[FR Doc. 2012-14966 Filed 6-18-12; 8:45 am]

BILLING CODE 3510-DS-P